Proclamation 8368 of May 1, 2009

Loyalty Day, 2009

By the President of the United States of America

A Proclamation

More than two centuries ago, our Nation’s Founders declared the birth of a new Nation and began an experiment in self-governance. The young Republic committed itself to protecting the rights of life, liberty, and the pursuit of happiness for all citizens. These ideals inspired loyalty to the young Nation and moved volunteers to fight for their independence.

Generations later, these founding principles continue to unify and command the loyalty of the American people. The United States has expanded in size, increased in population, and grown in diversity, yet the promise of liberty and the pursuit of happiness arouse the patriotism and loyalty of Americans anew. Just as early settlers pledged to do their part to build the new Nation, now recent immigrants—loyal to the very same values—are helping America fulfill its promise.

We enjoy these blessings of liberty only because brave patriots have answered the call of duty. The men and women of the United States Armed Forces exemplify loyalty to our highest ideals, as do those who have fought valiantly for civil rights within our borders. These Americans and many others have made enormous sacrifices, and our Nation is grateful for their selflessness and unshakeable loyalty.

The Congress, by Public Law 85-529, as amended, has designated May 1 of each year as “Loyalty Day.” On Loyalty Day, we honor our Nation and remember with pride the courageous individuals who help keep it safe and strong and who honor its legacy of freedom and equal opportunity.

NOW, THEREFORE, I, BARACK OBAMA, President of the United States of America, do hereby proclaim May 1, 2009, as Loyalty Day. I call upon all the people of the United States to join in support of this national observance and to display the flag of the United States on Loyalty Day.

IN WITNESS WHEREOF, I have hereunto set my hand this first day of May, in the year of our Lord two thousand nine, and of the Independence of the United States of America the two hundred and thirty-third.

[FR Doc. E9-10559

Filed 5-4-09; 12:00 pm]

Billing code 3195-W9-P